DEPARTMENT OF ENERGY

Federal Energy Regulatory Commission

Combined Notice of Filings #1

Take notice that the Commission received the following electric rate filings:

Docket Numbers: ER10-1946-003; ER11-3859-005; ER11-3863-004; ER11-3861-004; ER11-3864-005; ER11-3866-005; ER12-192-003; ER11-3867-005; ER11-3857-005; ER12-1725-001.

Applicants: Broad River Energy LLC, Dighton Power, LLC, ECP Energy I, LLC, Empire Generating Co, LLC, EquiPower Resources Management, LLC, Lake Road Generating Company, L.P., Liberty Electric Power, LLC, MASSPOWER, Milford Power Company, LLC, Red Oak Power, LLC.

Description: Supplement and Amendment to January 25, 2013 Notice of Change in Status of Broad River Energy LLC, et al.

Filed Date: 2/22/13.

Accession Number: 20130222-5110.

Comments Due: 5 p.m. ET 4/10/13.

Docket Numbers: ER13-1128-000.

Applicants: Michigan Electric Transmission Company.

Description: Filing of CIAC with Wolverine Power Supply Cooperative, Inc. to be effective 5/20/2013.

Filed Date: 3/19/13.

Accession Number: 20130319-5067.

Comments Due: 5 p.m. ET 4/9/13.

Docket Numbers: ER13-1129-000.

Applicants: Portland General Electric Company.

Description: Request for Extension of Limited Waiver of Portland General Electric Company.

Filed Date: 3/19/13.

Accession Number: 20130319-5089.

Comments Due: 5 p.m. ET 4/9/13.

Docket Numbers: ER13-1130-000.

Applicants: Monongahela Power Company, PJM Interconnection, L.L.C.

Description: Mon Power submits revisions to PJM “OATT Att H-11A” & new SA No. 3513 re HREA to be effective 11/1/2012.

Filed Date: 3/19/13.

Accession Number: 20130319-5097.

Comments Due: 5 p.m. ET 4/9/13.

Docket Numbers: ER13-1131-000.

Applicants: Monongahela Power Company, PJM Interconnection, L.L.C.

Description: Mon Power submits revisions to PJM OATT Att H-11A & new “SA No. 3513” re HREA to be effective 11/1/2012.

Filed Date: 3/19/13.

Accession Number: 20130319-5099.

Comments Due: 5 p.m. ET 4/9/13

Docket Numbers: ER13-1132-000.

Applicants: EconoPower, LLC.

Description: EconoPower, LLC submits Baseline new to be effective 3/20/2013.

Filed Date: 3/19/13.

Accession Number: 20130319-5106.

Comments Due: 5 p.m. ET 4/9/13.

Take notice that the Commission received the following qualifying facility filings:

Docket Numbers: QF13-363-000.

Applicants: CES Sterling LLC.

Description: CES Sterling LLC submits Refund Report.

Filed Date: 3/19/13.

Accession Number: 20130319-5129.

Comments Due: 5 p.m. ET 4/9/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 20, 2013.
Nathaniel J. Davis, Sr.,
Deputy Secretary.

[FR Doc. 2013-06990 Filed 3-26-13; 8:45 am]

BILLING CODE 6717-01-P